DEPARTMENT OF COMMERCE

International Trade Administration

[A-570-979]

Crystalline Silicon Photovoltaic Cells, Whether or Not Assembled Into Modules, From the People's Republic of China: Final Results of Antidumping Duty Administrative Review and Final Determination of No Shipments; 2013-2014

AGENCY: Enforcement and Compliance, International Trade Administration, Department of Commerce.

SUMMARY: On December 28, 2015, the Department of Commerce (the “Department”) published its preliminary results in the 2013-2014 administrative review of the antidumping duty order on crystalline silicon photovoltaic cells, whether or not assembled into modules (“solar cells”), from the People's Republic of China (“PRC”).¹ The period of review (“POR”) is December 1, 2013, through November 30, 2014. This administrative review covers two mandatory respondents: (1) The collapsed entity Yingli ² and (2) the collapsed entity Trina.³ Based on our analysis of the comments received, we made certain changes to our margin calculations for Yingli and Trina. The final dumping margins for this review are listed in the “Final Results” section below.

¹ See Crystalline Silicon Photovoltaic Cells, Whether or Not Assembled Into Modules, From the People's Republic of China: Preliminary Results of Antidumping Duty Administrative Review and Preliminary Determination of No Shipments; 2013-2014, 80 FR 80746 (December 28, 2015) (“Preliminary Results”), and accompanying Preliminary Decision Memorandum (“PDM”).

² In these final results of review, the Department has continued to treat the mandatory respondent Yingli Energy (China) Company Limited and the following eight companies as a single entity: (1) Baoding Tianwei Yingli New Energy Resources Co., Ltd.; (2) Tianjin Yingli New Energy Resources Co., Ltd.; (3) Hengshui Yingli New Energy Resources Co., Ltd.; (4) Lixian Yingli New Energy Resources Co., Ltd.; (5) Baoding Jiasheng Photovoltaic Technology Co., Ltd.; (6) Beijing Tianneng Yingli New Energy Resources Co., Ltd.; (7) Hainan Yingli New Energy Resources Co., Ltd.; (8) Shenzhen Yingli New Energy Resources Co., Ltd. (collectively “Yingli”). See Preliminary Results, 80 FR at 80746, and PDM at 6-8; see also the December 18, 2015 memorandum from Jeff Pedersen International Trade Analyst, AD/CVD Operations, Office IV to Abdelali Elouaradia Director AD/CVD Operations, Office IV, concerning affiliation and single entity status.

³ In these final results of review, the Department has continued to treat the mandatory respondent Changzhou Trina Solar Energy Co., Ltd. and Trina Solar (Changzhou) Science & Technology Co., Ltd. and the following four companies as a single entity: (1) Yancheng Trina Solar Energy Technology Co., Ltd.; (2) Changzhou Trina Solar Yabang Energy Co., Ltd.; (3) Turpan Trina Solar Energy Co., Ltd.; (4) Hubei Trina Solar Energy Co., Ltd. (collectively “Trina”). See Preliminary Results, 80 FR at 80746, and PDM; see also the December 18, 2015 memorandum from Thomas Martin International Trade Analyst, AD/CVD Operations, Office IV to Abdelali Elouaradia Director AD/CVD Operations, Office IV concerning affiliation and single entity status.

FOR FURTHER INFORMATION CONTACT: Jeff Pedersen and Thomas Martin, AD/CVD Operations, Office IV, Enforcement & Compliance, International Trade Administration, Department of Commerce, 14th Street and Constitution Avenue NW., Washington, DC 20230; telephone: (202) 482-2769 or (202) 482-3936, respectively.

Background

On December 28, 2015, the Department published its Preliminary Results in this review. On January 27, 2016, SolarWorld Americas Inc. (“Petitioner”), Yingli, and Trina requested a hearing. On February 2, 2016, Petitioner, Yingli, and Trina submitted case briefs.⁴ On February 10, 2016, Petitioner, Yingli, and Trina submitted rebuttal briefs.⁵ On March 4, 2016, Yingli and Trina withdrew their requests for a hearing.⁶ On March 9, 2016, Petitioner withdrew its request for a hearing.⁷ Thus, there are no outstanding hearing requests. On January 27, 2016, the Department tolled all administrative deadlines as a result of the government closure due to Snowstorm “Jonas.” ⁸ Subsequently, the Department extended the deadline for the final results of this review until June 13, 2016.⁹

⁴ See Letters to the Department from Petitioner, “Solar World Americas, Inc.'s Case Brief,” Yingli “Yingli's Case Brief,” and Trina “Trina's Case Brief,” all dated February 2, 2016.

⁵ See Letters to the Department from Petitioner, “Solar World Americas, Inc.'s Rebuttal Brief,” Yingli “Yingli's Rebuttal Brief,” and Trina “Trina's Rebuttal Brief,” all dated February 10, 2016.

⁶ See Letters to the Department from Yingli “Withdrawal of Yingli's Hearing Request,” and Trina “Withdrawal of Hearing Request,” both dated March 4, 2016.

⁷ See Letter to the Department from Petitioner, “Withdrawal of Request for Hearing,” dated March 9, 2016.

⁸ See January 27, 2016, memorandum to the record from Ron Lorentzen, Acting Assistant Secretary for Enforcement and Compliance, entitled “Tolling of Administrative Deadlines as a Result of the Government Closure during Snowstorm `Jonas'.”

⁹ See April 26, 2016 and May 26, 2016 memoranda from Jeff Pedersen, Senior International Trade Compliance Analyst, Office IV, Antidumping and Countervailing Duty Operations to Christian Marsh Deputy Assistant Secretary for Antidumping and Countervailing Duty Operations concerning extensions of the deadline for these final results of review.

Scope of the Order

The merchandise covered by the order is crystalline silicon photovoltaic cells, and modules, laminates, and panels, consisting of crystalline silicon photovoltaic cells, whether or not partially or fully assembled into other products, including, but not limited to, modules, laminates, panels and building integrated materials.¹⁰ Merchandise covered by this review is classifiable under subheading 8501.61.0000, 8507.20.80, 8541.40.6020, 8541.40.6030, and 8501.31.8000 of the Harmonized Tariff Schedule of the United States (“HTSUS”). Although the HTSUS subheadings are provided for convenience and customs purposes, our written description of the scope of the order is dispositive.

¹⁰ For a complete description of the scope of the order, see Memorandum from Christian Marsh, Deputy Assistant Secretary for Antidumping and Countervailing Duty Operations, to Paul Piquado, Assistant Secretary for Enforcement and Compliance, “Decision Memorandum for the Final Results of the 2013-2014 Antidumping Duty Administrative Review of Crystalline Silicon Photovoltaic Cells, Whether or Not Assembled into Modules, from the People's Republic of China,” (“Issues and Decision Memorandum”), dated concurrently with this notice.

Analysis of Comments Received

All issues raised in the case and rebuttal briefs filed by parties in this review are addressed in the Issues and Decision Memorandum,¹¹ which is hereby adopted by this notice. A list of the issues that parties raised, and to which we responded in the Issues and Decision Memorandum, follows as an appendix to this notice. The Issues and Decision Memorandum is a public document and is on file electronically via Enforcement and Compliance's Antidumping and Countervailing Duty Centralized Electronic Service System (“ACCESS”). ACCESS is available to registered users at https://access.trade.gov and in the Central Records Unit, room B8024 of the main Department of Commerce building. In addition, a complete version of the Issues and Decision Memorandum can be accessed directly on the Internet at http://enforcement.trade.gov/frn/. The paper copy and electronic version of the Issues and Decision Memorandum are identical in content.

¹¹ See Issues and Decision Memorandum.

Changes Since the Preliminary Results

Based on a review of the record and comments received from interested parties regarding our Preliminary Results, and for the reasons explained in the Issues and Decision Memorandum, we made the following revisions to our preliminary calculations of the weighted-average dumping margins for Trina and Yingli:

Changes Specific to Trina

• Revised surrogate value choices for certain direct materials, material offsets, and movement expenses.

• Revised the imputed credit expense calculation.

• Revised the warranty expense calculation.

• Revised the calculation of domestic inland insurance and marine insurance expenses.

Changes Specific to Yingli

• Revised surrogate value choices for certain direct materials and movement expenses.

• Corrected a conversion error.

Final Determination of No Shipments

In the Preliminary Results, we found that Jiangsu Sunlink PV Technology Co., Ltd. and Shanghai JA Solar Technology Co., Ltd. each had no shipments during the POR.¹² We did not receive any comments concerning our finding of no shipments by these two companies. For these final results, the Department continues to find that Jiangsu Sunlink PV Technology Co., Ltd. and Shanghai JA Solar Technology Co., Ltd. did not have any reviewable transactions of subject merchandise during the POR.

¹² See Preliminary Results, 80 FR at 80746, and PDM at 5-6.

Separate Rates

In the Preliminary Results, the Department determined that Trina, Yingli, and 15 other separate rate applicants (“separate rate respondents”),¹³ had demonstrated their eligibility for separate rates ¹⁴ but determined to treat six other companies ¹⁵ subject to this review as part of the PRC-wide entity because they did not establish their eligibility to receive a separate rate.¹⁶ Since the Preliminary Results, the Department has not received any comments that would warrant a review of our preliminary separate rate determinations regarding these companies. Therefore, we continue to find that these 15 separate rate respondents are eligible for a separate rate while the other six companies are not, and thus these six companies are part of the PRC-wide entity. The Department assigned a weighted-average dumping margin to the separate rate companies that it did not individually examine, but which demonstrated their eligibility for a separate rate, based on the mandatory respondent's dumping margins as explained in the memorandum to the file regarding “Calculation of the Final Dumping Margin for Separate Rate Recipients” dated concurrently with this notice.¹⁷

¹³ These companies are: (1) Yingli; (2) Trina; (3) BYD (Shangluo) Industrial Co., Ltd.; (4) Dongguan Sunworth Solar Energy Co., Ltd.; (5) ERA Solar Co., Ltd.; (6) Jiangsu High Hope Int'l Group; (7) Ningbo Qixin Solar Electrical Appliance Co., Ltd.; (8) Shanghai BYD Co., Ltd.; (9) Shenzhen Glory Industries Co., Ltd. (10) Shenzhen Topray Solar Co., Ltd.; (11) Wuxi Suntech Power Co., Ltd./Luoyang Suntech Power Co., Ltd.; (12) Canadian Solar International Limited; (13) Canadian Solar Manufacturing (Changshu) Inc.; (14) Canadian Solar Manufacturing (Luoyang) Inc.; (15) ET Solar Energy Limited; (16) JA Solar Technology Yangzhou Co., Ltd.; and (17) JingAo Solar Co., Ltd.

¹⁴ See PDM at 10-12.

¹⁵ These companies are: (1) Canadian Solar Inc.; (2) ET Solar Industry Limited; (3) MS Solar Investments LLC; (4) Yingli Green Energy Americas, Inc.; (5) Yingli Green Energy Holding Co., Ltd.; and (6) Yingli Green Energy International Trading Company Limited.

¹⁶ See PDM at 10-15.

¹⁷ See Memorandum to the File, from Jeff Pedersen through Howard Smith, Program Manager, AD/CVD Operations, Office IV, “Calculation of the Final Margin for Separate Rate Recipients,” dated concurrently with this notice.

Final Results

We determine that the following weighted-average dumping margins exist for the POR:

Exporter | Weighted-average dumping margin (percent)
Yingli Energy (China) Company Limited/Baoding Tianwei Yingli New Energy Resources Co., Ltd./Tianjin Yingli New Energy Resources Co., Ltd./Hengshui Yingli New Energy Resources Co., Ltd./Lixian Yingli New Energy Resources Co., Ltd./Baoding Jiasheng Photovoltaic Technology Co., Ltd./Beijing Tianneng Yingli New Energy Resources Co., Ltd./Hainan Yingli New Energy Resources Co., Ltd./Shenzhen Yingli New Energy Resources Co., Ltd | 12.19
Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd | 6.12
BYD (Shangluo) Industrial Co., Ltd | 8.52
Canadian Solar International Limited | 8.52
Canadian Solar Manufacturing (Changshu) Inc | 8.52
Canadian Solar Manufacturing (Luoyang) Inc | 8.52
Dongguan Sunworth Solar Energy Co., Ltd | 8.52
ERA Solar Co., Ltd | 8.52
ET Solar Energy Limited | 8.52
JA Solar Technology Yangzhou Co., Ltd | 8.52
Jiangsu High Hope Int'l Group | 8.52
JingAo Solar Co., Ltd | 8.52
Ningbo Qixin Solar Electrical Appliance Co., Ltd | 8.52
Shanghai BYD Co., Ltd | 8.52
Shenzhen Glory Industries Co., Ltd | 8.52
Shenzhen Topray Solar Co., Ltd | 8.52
Wuxi Suntech Power Co., Ltd./Luoyang Suntech Power Co., Ltd | 8.52

Disclosure

We intend to disclose the calculations performed for these final results of review within five days of publication of this notice in the Federal Register in accordance with 19 CFR 351.224(b).

Assessment Rates

The Department will determine, and U.S. Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where the respondent reported reliable entered values, the Department calculated importer- (or customer)-specific ad valorem rates by aggregating the dumping margins calculated for all U.S. sales to the importer- (or customer) and dividing this amount by the total entered value of the sales to the importer- (or customer).¹⁸ Where the Department calculated an importer- (or customer)-specific weighted-average dumping margin by dividing the total amount of dumping for reviewed sales to the importer- (or customer) by the total sales quantity associated with those transactions, the Department will direct CBP to assess importer- (or customer)-specific assessment rates based on the resulting per-unit rates.¹⁹ Where an importer- (or customer)- specific ad valorem or per-unit rate is greater than de minimis, the Department will instruct CBP to collect the appropriate duties at the time of liquidation. Where either the respondent's weighted average dumping margin is zero or de minimis, or an importer (or customer-) specific ad valorem or per-unit rate is zero or de minimis, the Department will instruct CBP to liquidate appropriate entries without regard to antidumping duties.²⁰

¹⁸ See 19 CFR 351.212(b)(1).

¹⁹ Id.

²⁰ See Antidumping Proceedings: Calculation of the Weighted-Average Dumping Margin and Assessment Rate in Certain Antidumping Duty Proceedings; Final Modification, 77 FR 8101, 8103 (February 14, 2012).

For merchandise that was not reported in the U.S. sales database submitted by an exporter individually examined during this review, but that entered under the case number of that exporter (i.e., at the individually-examined exporter's cash deposit rate), the Department will instruct CBP to liquidate such entries at the PRC-wide rate. Additionally, if the Department determines that an exporter under review had no shipments of the subject merchandise, any suspended entries that entered under that exporter's case number will be liquidated at the PRC-wide rate.²¹

²¹ See Non-Market Economy Antidumping Proceedings: Assessment of Antidumping Duties, 76 FR 65694 (October 24, 2011), for a full discussion of this practice.

Cash Deposit Requirements

The following cash deposit requirements will be effective upon publication of the final results of this administrative review for shipments of the subject merchandise from the PRC entered, or withdrawn from warehouse, for consumption on or after the publication date of this notice in the Federal Register, as provided by section 751(a)(2)(C) of the Act: (1) For the exporters listed above, the cash deposit rate will be the rate listed for each exporter in the table in the “Final Results” section of this notice; (2) for previously investigated PRC and non-PRC exporters that received a separate rate in a prior segment of this proceeding, the cash deposit rate will continue to be the existing exporter-specific rate; (3) for all PRC exporters of subject merchandise that have not been found to be entitled to a separate rate, the cash deposit rate will be the rate previously established for the PRC-wide entity (i.e., 238.95 percent); ²² and (4) for all non-PRC exporters of subject merchandise which have not received their own rate, the cash deposit rate will be the rate applicable to the PRC exporter that supplied that non-PRC exporter. These deposit requirements, when imposed, shall remain in effect until further notice.

²² See Crystalline Silicon Photovoltaic Cells, Whether or Not Assembled Into Modules, From the People's Republic of China: Final Results of Antidumping Duty Administrative Review and Final Determination of No Shipments; 2012-2013, 80 FR 40998, 41002 (July 14, 2015).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of double antidumping duties.

Administrative Protective Order (“APO”)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing these final results of administrative review and publishing this notice in accordance with sections 751(a)(1) and 777(i) of the Act.

Dated: June 13, 2016.
Paul Piquado,
Assistant Secretary for Enforcement and Compliance.

Appendix—Issues and Decision Memorandum

Summary

Background

Scope of the Order

Discussion of the Issues

Comment 1: Surrogate Country

Comment 2: Conversion of the Market Economy Price for Wafers

Comment 3: Valuation of “Unclassified Stores” of Polysilicon

Comment 4: Valuation of Brokerage and Handling in Doing Business in Thailand

Comment 5: Whether the Department should adjust the brokerage and handling SV used for Trina in the Preliminary Results

Comment 6: Calculation of Surrogate Labor Value

Comment 7: Surrogate Value for Aluminum Angle Keys

Comment 8: Surrogate Value for Aluminum Frames

Comment 9: Differential Pricing

Comment 10: Valuing Tempered Glass

Comment 11: Surrogate Value for Junction Boxes

Comment 12: Financial Statements

Comment 13: Surrogate Value for Semi-finished Polysilicon Ingots and Blocks

Comment 14: Surrogate Value for Backsheets

Comment 15: World Cup Sponsorship

Comment 16: Data Source to use to Value Polysilicon and Wafers

Comment 17: Calculation of Scrap for Waste Cells and Modules

Comment 18: Whether the Department applied the correct surrogate value to Trina's silver paste

Comment 19: Whether the Department should apply partial AFA to Trina's unreported factors of production for purchased solar cells

Comment 20: Whether the Department erroneously valued certain overhead items as direct materials

Comment 21: Whether the Department applied the correct surrogate value to nitrogen

Comment 22: Whether the Department should not include import data with zero quantities in the average unit SV calculation

Comment 23: Whether the Department should revise the SV for brokerage and handling

Comment 24: Whether the Department should revise Trina's credit expenses and inventory carrying costs

Comment 25: Whether the Department should revise Trina's warranty expenses when calculating CEP

Comment 26: Whether the Department should revise Trina's insurance expenses

[FR Doc. 2016-14532 Filed 6-17-16; 8:45 am]

BILLING CODE 3510-DS-P